NATIONAL SCIENCE FOUNDATION

Request for Comments on the Program Solicitation for the Advanced Technological Education Program (ATE)

AGENCY: National Science Foundation.

ACTION: Request for Comments.

SUMMARY: This notice announces the intent of the Advanced Technological Education (ATE) Program at the National Science Foundation (NSF) to change some emphases in the program's solicitation.

As part of this information collection effort, the Division of Undergraduate Education in the Directorate for Education and Human Resources is requesting comments on possible changes to the current program solicitation, that could include: (1) Adding specific emerging areas to expand the pool of skilled technicians in strategic advanced-technology fields; (2) increasing focus on or highlighting gaps in the program solicitation that need to be addressed; (3) developing new types of partnerships (e.g., NIST Manufacturing Extension Partnerships, partnerships with Discipline-Based Educational Researchers, partnerships with learning scientists, educational researchers and evaluators); and (4) adding Research & Development (R&D) on innovations in curricular, learning materials, tools, assessments, and faculty and student professional development.

DATES: Send your written comments by December 2, 2013.

ADDRESSES: Send your written comments to Advanced Technological Education Program, Division of Undergraduate Education, National Science Foundation, 4201 Wilson Blvd., Room 835, Arlington, VA 22230. Send email comments to ate-comments@nsf.gov by December 2, 2013.

FOR FURTHER INFORMATION CONTACT: ate-additional-info@nsf.gov by December 2, 2013.

SUPPLEMENTARY INFORMATION:

A. Background

The National Science Foundation (NSF) Advanced Technological Education (ATE) program was established by the Scientific and Advanced Technology Act of 1992 to utilize the resources of the Nation's two-year associate-degree granting colleges. With an emphasis on two-year institutions, the Advanced Technological Education (ATE) program focuses on the education of technicians for the high technology fields that drive our nation's economy. The program involves partnerships between academic institutions and industry to promote improvement in the education of science and engineering technicians at the undergraduate and secondary school levels. The ATE program supports curriculum development; professional development of college faculty and secondary school teachers; career pathways to two-year colleges from secondary schools and from two-year colleges to four-year institutions; career pathways that lead to entry-level technician positions in STEM that require less than a baccalaureate degree, and other activities The program also invites proposals focusing on research to advance practice and the knowledge base related to technician education.

Program goals are to

1. Educate highly qualified science and engineering technicians to meet workforce demands in strategic advanced technology fields;

2. Improve the technical skills and general science, technology, engineering, and mathematics (STEM) preparation of these technicians and the educators who prepare them at the secondary (grades 7-12) and undergraduate levels; and

3. Increase the capacity of institutions to effectively partner with industry to develop and implement advanced technician education programs that supply the workforce for industry and enhance the economic vitality of the region and the Nation.

ATE is a workforce program that is located in the Division of Undergraduate Education (DUE) in the Directorate for Education and Human Resources.

The National Science Foundation (NSF) is an independent federal agency established by Congress in 1950 “to promote the progress of science; to advance the national health, prosperity, and welfare; to secure the national defense; and for other purposes” (http://www.nsf.gov/about/)

The NSF Directorate for Education and Human Resources (EHR) “makes investments toward a vision of a healthy and vital national science, technology, engineering, and mathematics (STEM) enterprise. The Directorate works toward that vision through its mission, which is to support the preparation of a diverse, globally competent STEM workforce and a STEM-literate citizenry through investments in research and development on STEM education and learning. Opportunities to learn STEM effectively—for people of all ages, from all corners of the Nation, and in many venues (e.g., classrooms and living rooms; science centers and virtual centers)—are the foundation for that scientifically literate society and strong scientific workforce. These, in turn, are the basis for keeping our Nation globally competitive, prosperous, and secure. EHR provides the focus for NSF's investments to advance STEM learning, scientific literacy, and a globally competitive science and engineering workforce” (http://www.nsf.gov/about/budget/fy2014/pdf/25_fy2014.pdf).

B. Request for Comments

The Advanced Technological Education (ATE) Program is seeking information from the public and program stakeholders. Governmental policy makers, academic researchers, evaluators, industry, professional societies, and other interested parties are encouraged to participate by submitting comments. These comments will be used to inform changes to the solicitation and may be made publicly available. The ATE Program will not respond to individual comments. Official address, contact, and due date for submitting comments are stated above.

Dated: October 29, 2013.
Suzanne H. Plimpton,
Reports Clearance Officer, National Science Foundation.

[FR Doc. 2013-26099 Filed 10-31-13; 8:45 am]

BILLING CODE 7555-01-P